DEPARTMENT OF ENERGY

Federal Energy Regulatory Commission

[Lakefield Wind Project, LLC, EG10-57-000; Constellation Mystic Power, LLC, EG10-58-000; Pattern Gulf Wind, LLC, EG10-59-000; New Harvest Wind Project, LLC, EG10-60-000; Dry Lake Wind Power, II LLC, EG10-61-000; Learning Jupiter Wind Power, LLC, EG10-62-000; Hardscrabble Wind Power LLC, EG10-63-000; Baldwin Wind, LLC, EG10-64-000]

Notice of Effectiveness of Exempt Wholesale Generator Status

November 8, 2010.

Take notice that during the month of October 2010, the status of the above-captioned entities as Exempt Wholesale Generators became effective by operation of the Commission's regulations. 18 CFR 366.7(a).

Kimberly D. Bose,
Secretary.

[FR Doc. 2010-28903 Filed 11-16-10; 8:45 am]

BILLING CODE 6717-01-P